NATIONAL ARCHIVES AND RECORDS ADMINISTRATION

[NARA-2020-058]

Freedom of Information Act (FOIA) Advisory Committee Meeting

AGENCY: Office of Government Information Services (OGIS), National Archives and Records Administration (NARA).

ACTION: Notice of Federal advisory committee meeting.

SUMMARY: We are announcing an upcoming Freedom of Information Act (FOIA) Advisory Committee meeting in accordance with the Federal Advisory Committee Act and the second United States Open Government National Action Plan.

DATES: The meeting will be on September 10, 2020, from 1:00 p.m. to 4:00 p.m. EDT. You must register by midnight EDT September 8, 2020, to attend the meeting.

ADDRESSES: This meeting will be held virtually. We will send instructions on how to access it to those who register according to the instructions below.

FOR FURTHER INFORMATION CONTACT: Kirsten Mitchell, Designated Federal Officer for this committee, by email at foia-advisory-committee@nara.gov or by telephone at 202.741.5770.

SUPPLEMENTARY INFORMATION: Agenda and meeting materials: We will post all meeting materials at https://www.archives.gov/ogis/foia-advisory-committee/2020-2022-term.

This will be the first meeting of the new committee term. The purpose of this meeting will be to introduce all of the members, hear a report from the co-chairs of the Chief FOIA Officers' Council Technology Committee, and discuss topics for the Committee to consider in the next two years.

Procedures: This virtual meeting is open to the public. You must register in advance through the Eventbrite link https://foiaac-mtg-sep-10-2020.eventbrite.com if you wish to attend, and you must provide an email address so that we can provide you with information to access the meeting online. To request additional accommodations (e.g., a transcript), email foia-advisory-committee@nara.gov or call 202.741.5770. Members of the media who wish to register, those who are unable to register online, and those who require special accommodations, should contact Kirsten Mitchell (contact information listed above).

Maureen MacDonald,
Designated Committee Management Officer.

[FR Doc. 2020-18681 Filed 8-25-20; 8:45 am]

BILLING CODE 7515-01-P